DEPARTMENT OF TRANSPORTATION

National Highway Traffic Safety Administration

[Docket No. NHTSA-2016-0072; Notice 2]

Cooper Tire & Rubber Company, Grant of Petition for Decision of Inconsequential Noncompliance

AGENCY: National Highway Traffic Safety Administration (NHTSA), Department of Transportation (DOT).

ACTION: Grant of petition.

SUMMARY: Cooper Tire & Rubber Company (Cooper), has determined that certain Mastercraft and Big O tires do not fully comply with Federal Motor Vehicle Safety Standard (FMVSS) No. 139, New Pneumatic Radial Tires for Light Vehicles. Cooper filed a defect report dated May 24, 2016, and amended it on June 1, 2016. Cooper also petitioned NHTSA on June 21, 2016, for a decision that the subject noncompliance is inconsequential as it relates to motor vehicle safety.

ADDRESSES: For further information on this decision contact Abraham Diaz, Office of Vehicle Safety Compliance, the National Highway Traffic Safety Administration (NHTSA), telephone (202) 366-5310, facsimile (202) 366-5930.

SUPPLEMENTARY INFORMATION:

I. Overview: Cooper Tire & Rubber Company (Cooper), has determined that certain Mastercraft and Big O tires do not fully comply with paragraph S5.5(f) of Federal Motor Vehicle Safety Standard (FMVSS) No. 139, New Pneumatic Radial Tires for Light Vehicles. Cooper filed a defect report dated May 24, 2016, and amended it on June 1, 2016, pursuant to 49 CFR part 573, Defect and Noncompliance Responsibility and Reports. Cooper also petitioned NHTSA on June 21, 2016, pursuant to 49 U.S.C. 30118(d) and 30120(h) and their implementing regulations at 49 CFR part 556, for an exemption from the notification and remedy requirements of 49 U.S.C. Chapter 301 on the basis that this noncompliance is inconsequential as it relates to motor vehicle safety.

Notice of receipt of the petition was published, with a 30-day public comment period, on August 3, 2016 in the Federal Register (81 FR 51267). No comments were received. To view the petition and all supporting documents log onto the Federal Docket Management System (FDMS) Web site at: http://www.regulations.gov/. Then follow the online search instructions to locate docket number “NHTSA-2016-0072.”

II. Tires Involved: Affected are 22,188 of the following tubeless radial tires manufactured between February 14, 2016, and April 30, 2016:

• Mastercraft LSR Grand Touring size 215/60R16

• Mastercraft LSR Grand Touring size 225/60R16

• Big O Legacy Tour Plus size 215/60R16

• Big O Legacy Tour Plus size 225/60R16

III. Noncompliance: Cooper explains that due to a mold error, the number of tread plies indicated on the sidewall of the subject tires does not match the actual number of plies in the tire construction. The tires are marked “TREAD 1 PLY NYLON + 2 PLY STEEL + 2 PLY POLYESTER” whereas the correct marking should be: “TREAD 1 PLY NYLON + 2 PLY STEEL + 1 PLY POLYESTER.” As a consequence, these tires do not meet the requirements specified in paragraph S5.5(f) of FMVSS No. 139.

IV. Rule Text: Paragraph S5.5(f) of FMVSS No. 139 states, in pertinent part:

S5.5 Tire Markings. Except as specified in paragraph (a) through (i) of S5.5, each tire must be marked on each sidewall with the information specified in S5.5(a) through (d) and on one sidewall with the information specified in S5.5(e) through (i) according to the phase-in schedule specified in S7 of this standard . . .

(f) The actual number of plies in the sidewall, and the actual number of plies in the tread area, if different.

V. Summary of Cooper's Petition: Cooper described the subject noncompliance and stated its belief that the noncompliance is inconsequential as it relates to motor vehicle safety.

In support of its petition, Cooper submitted the following information pertaining to the subject noncompliance:

(a) Cooper states that the mislabeled number of plies indicated on the sidewalls has no impact on the operational performance or durability of the subject tires or on the safety of vehicles on which those tires are mounted. Cooper states that while the subject tires do not indicate the correct number of plies in the tread on the outboard side, they meet all other performance requirements under the Federal Motor Vehicle Safety Standards. Cooper notes that the number of plies in the tread does not impact the performance or operation of a tire and does not create a safety concern to either the operator of the vehicle on which the tires are mounted, or the safety of personnel in the tire repair, retread and recycle industry.

(b) Cooper also states that the subject tires were built as designed and meet or exceed all performance requirements and testing requirements specified under FMVSS No. 139. Cooper states that the subject tires completed all Cooper Tire internal compliance testing criteria, including passing shipping certification testing in January 2016. In addition, the 215/60R16, Mastercraft LRS Grand Touring, serial week 1116, passed all surveillance testing conducted in early March 2016.

(c) Cooper states that the stamping deviation occurred as a result of an administrative error when incorrect information was entered into Cooper Tire's electronic specification system at the corporate level. That system communicates information to the mold management system which in turn generates the construction stamping pocket plate. The electronic specification system incorrectly listed the specific tire sizes and brands as two-ply, when the tires were actually designed with an HPL construction or as having a single ply in the tread. The incorrect construction information was then engraved in the pocket plate and then installed in the affected molds.

(d) Cooper states that it is not aware of any crashes, injuries, customer complaints, or field reports associated with the mislabeling.

Cooper states that the mislabeling has been corrected at the corporate level and the pocket plates of the molds have been replaced, therefore, no additional tires will be manufactured or sold with the noncompliance. Cooper also states that it has conducted training with tire engineers at the corporate level responsible for inputting information into the electronic specification system on the importance of the information they are submitting.

Cooper observed that NHTSA has previously granted inconsequential noncompliance petitions regarding noncompliances that are similar to the subject noncompliance.

Cooper concluded by expressing the belief that the subject noncompliance is inconsequential as it relates to motor vehicle safety, and that its petition to be exempted from providing notification of the noncompliance, as required by 49 U.S.C. 30118, and a remedy for the noncompliance, as required by 49 U.S.C. 30120, should be granted.

NHTSA's Decision

NHTSA's Analysis: The agency agrees with Cooper that the noncompliance is inconsequential to motor vehicle safety. The agency believes that one measure of inconsequentiality to motor vehicle safety in this case is that there is no effect of the noncompliance on the operational safety of vehicles on which these tires are mounted. The safety of people working in the tire retread, repair and recycling industries must also be considered and is a measure of inconsequentiality.

Although tire construction affects the strength and durability of tires, neither the agency nor the tire industry provides information relating tire strength and durability to the number of plies and types of ply cord material in the tread sidewall. Therefore, tire dealers and customers should consider the tire construction information along with other information such as the load capacity, maximum inflation pressure, and tread wear, temperature, and traction ratings, to assess performance capabilities of various tires. In the agency's judgement, the incorrect labeling of the tire construction information will have an inconsequential effect on motor vehicle safety because most consumers do not base tire purchases or vehicle operation parameters on the number of plies in a tire.

The agency also believes the noncompliance will have no measureable effect on the safety of the tire retread, repair, and recycling industries. The use of steel cord construction in the sidewall and tread is the primary safety concern of these industries. In this case, since the tire sidewalls are marked correctly for the number of steel plies, this potential safety concern does not exist.

NHTSA'S Decision: In consideration of the foregoing, NHTSA finds that Cooper has met its burden of persuasion that the subject FMVSS No. 139 noncompliance in the affected tires is inconsequential to motor vehicle safety. Accordingly, Cooper's petition is hereby granted and Cooper is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject tires that Cooper no longer controlled at the time it determined that the noncompliance existed. However, the granting of this petition does not relieve equipment distributors and dealers of the prohibitions on the sale, offer for sale, or introduction or delivery for introduction into interstate commerce of the noncompliant tires under their control after Cooper notified them that the subject noncompliance existed.

Authority: 49 U.S.C. 30118, 30120: delegations of authority at 49 CFR 1.95 and 501.8.

Jeffrey M. Giuseppe,
Director, Office of Vehicle Safety Compliance.

[FR Doc. 2017-06957 Filed 4-6-17; 8:45 am]

BILLING CODE 4910-59-P